DEPARTMENT OF COMMERCE

National Oceanic and Atmospheric Administration

Submission for OMB Review; Comment Request; Surveys To Collect Data on Use of the NOAA National Weather Service Cone of Uncertainty

The Department of Commerce will submit to the Office of Management and Budget (OMB) for clearance the following proposal for collection of information under the provisions of the Paperwork Reduction Act (44 U.S.C. Chapter 35).

Agency: National Oceanic and Atmospheric Administration (NOAA).

Title: Surveys to Collect Data on Use of the NOAA National Weather Service Cone of Uncertainty.

OMB Control Number: 0648-NEW.

Form Number(s): None.

Type of Request: Regular submission (request for new information collection).

Number of Respondents: 1,406.

Average Hours per Response: 20 minutes per response.

Burden Hours: 468.5 hours (1,406 × 20 = 28,120/60 = 468.5).

Needs and Uses: The NOAA National Weather Service (NWS) National Hurricane Center (NHC) produces tropical cyclone text and graphical products to provide critical information about meteorological parameters of tropical storms and hurricanes that could threaten the United States and other countries. While NOAA has a good understanding of how many of its core partners (i.e., emergency management personnel and broadcast meteorologists/members of the media) use these graphics, it is interested in how other professionals within key sectors (i.e., transportation, marine, tourism, energy) and international users perceive these products and use them in decision-making. In particular, NOAA is interested in input on the NHC Track Forecast Cone (often referred to as the Cone of Uncertainty). In addition to appearing on NHC's website, the Cone is widely disseminated on social media, online (e.g., local and national news websites), and on television—with broadcast meteorologists and private weather industry often making their own version of the graphic.

This request is for a web-based survey to collect data about the interpretation and use of the Cone of Uncertainty in the decision-making of key sectors that are at significant risk during a hurricane: energy/utilities, tourism, transportation, and marine. NOAA will use the data from the survey to determine how embedded the Cone of Uncertainty is in these key stakeholders' decision-making, as well as to determine what those decisions and implications look like (life and safety, loss reduction, other). It is vitally important for the NHC to understand this information before making any changes to the Cone graphic (e.g., visualization changes with the intent of improving understanding).

Affected Public: Business or other for-profit organizations.

Frequency: Once.

Respondent's Obligation: Voluntary.

Legal Authority:

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2020-07060 Filed 4-3-20; 8:45 am]

BILLING CODE 3510-KE-P